DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 4, 2002.

Interested persons are invited to submit written comments regarding the subject matter of the investigations to the Director, Division of Trade Adjustment Assistance, at the address shown below, not later than February 4, 2002.

The petitions filed in this case are available for inspection at the Office of the Director, Division of Trade Adjustment Assistance, Employment and Training Administration, U.S. Department of Labor, Room C-5311, 200 Constitution Avenue, NW., Washington, DC 20210.

Signed at Washington, DC this 17th day of December, 2001.
Edward A. Tomchick,
Director, Division of Trade Adjustment Assistance.

Appendix
[Petitions instituted on 12/17/2001]
TA-W | Subject firm (petitioners) | Location | Date of petition | Product(s)
40,429 | Onkyo America (Co.) | Columbus, IN | 11/30/2001 | Automotive Speakers.
40,430 | Vesuvius USA (Co.) | Cleveland, OH | 11/05/2001 | Hot and Cold Rolled Steel.
40,431 | ACME Steel (Wkrs) | Riverdale, IL | 11/28/2001 | Hot Rolled Steel.
40,432 | Phoenix Finishing (Co.) | Gaffney, SC | 11/01/2001 | Finished Broadwoven Fabrics.
40,433 | Olin Brass (Co.) | Indianapolis, IN | 11/09/2001 | Brass and Copper Alloys.
40,434 | Imperial Carbide (Co.) | Meadville, PA | 11/29/2001 | Machine Parts, Die Parts, Die and Molds.
40,435 | Telaxrs Communications (Wkrs) | So. Deerfield, MA | 11/04/2001 | Communication Products.
40,436 | Dometic Corp.(Co.) | LaGrange, IN | 11/12/2001 | R/V Air Conditioners.
40,437 | Thomas Henshall Silk (UNITE) | Paterson, NJ | 9/27/2001 | Finished Textile Fabrics.
40,438 | Appleton Papers (Co.) | Camp Hill, PA | 10/31/2001 | Carbonless Paper.
40,439 | Communication Associates (Wkrs) | Anniston, AL | 11/14/2001 | Power Magnetics.
40,440 | Cardinal Brands, Inc (Wkrs) | Washington, MO | 10/22/2001 | Desk Folders Business Bags.
40,441 | Road Machinery Co. (Wkrs) | Bayard, NM | 12/03/2001 | Heavy Road Machinery.
40,442 | Case New Holland Global (Co.) | Burlington, IA | 12/06/2001 | Self-Propelled Backhoes, Bulldozers.
40,443 | James Hamilton Constructi (Co.) | Silver City, NM | 12/07/2001 | Copper.
40,444 | Purcel Tire (Co.) | Silver City, NM | 12/03/2001 | Mining Tires.
40,445 | Composidie (Wkrs) | Apollo, PA | 11/05/2001 | High Speed Progressive Dies and Tolling.
40,446A | Value Line Textiles, Inc (Co.) | Lenoir City, TN | 10/31/2001 | Socks.
40,446 | Value Line Textiles (Co.) | Pilot Mountain, NC | 10/31/2001 | Socks.
40,447 | SCI, Inc. (Wkrs) | Lynchburg, VA | 11/01/2001 | Cellular Phones.
40,448 | Metalloy Corp. (Wkrs) | Hudson, MI | 11/15/2001 | Truck Parts.
40,449 | Clebert's Hosiery Mill (Co.) | Connelly Spring, NC | 11/07/2001 | Men's and Ladies' Socks.
40,450 | A.O. Smith Electrical (Wkrs) | Lexington, TN | 11/28/2001 | Electric Motors.
40,451 | Modern Prototype (Co.) | Troy, MI | 11/02/2001 | Automotive Prototype Parts.
40,452 | N and H Corporation (Co.) | Mohnton, PA | 11/06/2001 | T-Shirt, Shorts and Lingerie.
40,453 | Penley Corporation (Co.) | West Paris, ME | 12/06/2001 | Wooden Spring Clothes Pens.
40,454 | Biltwell Clothing Co. (Co.) | Ractor, AR | 11/09/2001 | Men's Tailored Pants.
40,455 | Phelps Dodge Bagdad (Co.) | Bagdad, AZ | 11/13/2001 | Copper—Mining and Milling.
40,456 | Magnequench International (UAW) | Anderson, IN | 12/07/2001 | Magnets and Magnetic Power.

[FR Doc. 02-1774 Filed 1-23-02; 8:45 am]

BILLING CODE 4510-30-M